DEPARTMENT OF AGRICULTURE

Farm Service Agency

President's Commission on Improving Economic Opportunity in Communities Dependent on Tobacco Production While Protecting Public Health

AGENCY: Farm Service Agency, USDA

ACTION: Notice of publication of final report and public briefings.

SUMMARY: Executive Order 13168 published September 22, 2000, established the President's Commission on Improving Economic Opportunity in Communities Dependent on Tobacco Production While Protecting Public Health (Commission). This notice announces that the Commission's Final Report will be published on May 14, 2001 and that two public briefings will be conducted by the Commission on May 14, 2001. The purpose of the public briefings will be to inform the public of the findings and recommendations, as set out in the Commission's Final Report. All meetings are open to the public.

DATES: The Commission will conduct the first briefing on May 14, 2001, from 8 a.m. to 10 a.m. at the McKimmon Center, North Carolina State University, 1101 Gorman St., Raleigh, NC and the second at the Executive Inn Hotel, 978 Phillips Lane, Louisville, KY, on May 14, 2001, from 2 p.m. to 4 p.m. All times are Eastern Standard Time. Copies of the Final Report will be available on the Commission's website at http:www.fsa.usda.gov/tobcom/ or by contacting Solomon Whitfield or Eloise Taylor at the Tobacco and Peanuts Division at the contact information listed below.

FOR FURTHER INFORMATION CONTACT: Doug Richardson, Executive Director, Tobacco Commission, United States Department of Agriculture, (USDA), 1400 Independence Avenue, SW., STOP 0574, Washington, DC, 20250-0574 or telephone (202) 418-4266 or toll free (866) 804-6698; FAX (202) 418-4270; Internet: doug_richardson@wdc.fsa.usda.gov or Solomon Whitfield, Acting Director, Tobacco and Peanuts Division, telephone (202) 720-5988 or Eloise Taylor, Agricultural Program Specialist, telephone (202) 720-9106; FAX (202) 690-2298; Internet: eloise_taylor@wdc.fsa.usda.gov.

SUPPLEMENTARY INFORMATION: The purpose of the Commission is to advise the President on changes occurring in the tobacco farming economy and recommend such measures as may be necessary to improve economic opportunity and development in communities that are dependent on tobacco production, while protecting consumers, particularly children, from hazards associated with smoking. The Commission collected and reviewed information about changes in the tobacco farming economy and Federal, State, and local initiatives intended to help tobacco growers, tobacco quota holders, and communities dependent on tobacco production pursue new economic opportunities. The Commission received public input through two public forums, its website, written comments and experts in tobacco farming, tobacco health issues, and economic development. After reviewing all input, the Commission is issuing its findings and recommendations in the Final Report, regarding the economic situation facing tobacco producers and tobacco dependent communities.

If special accommodations are required, please contact Doug Richardson, at the address specified above, by COB May 7, 2001.

Signed at Washington, D.C. on April 24, 2001.
James R. Little,
Acting Administrator, Farm Service Agency.

[FR Doc. 01-10566 Filed 4-26-01; 8:45 am]

BILLING CODE 3410-05-P